DEPARTMENT OF ENERGY

Federal Energy Regulatory Commission

[Docket No. ER01-2613-001, et al.]

PECO Energy Company, et al.; Electric Rate and Corporate Regulation Filings

October 4, 2001.

Take notice that the following filings have been made with the Commission:

1. PECO Energy Company

[Docket No. ER01-2613-001]

Take notice that on October 2, 2001, PECO Energy Company (PECO) resubmitted a Construction Agreement with the Federal Energy Regulatory Commission (Commission), between PECO and Old Dominion Electric Cooperative (Old Dominion) in the format required by the Commission's Order No. 614. The Construction Agreement has been designated as Service Agreement No. 612 under PJM Interconnection L.L.C.'s (PJM) open access transmission tariff. The filing was made in compliance with the Commission's Letter Order dated September 13, 2001 in Docket No. ER01-2613-000, which accepted the Construction Agreement for filing on the requested effective date, conditioned upon this compliance filing. Except for the new designation and pagination, the Construction Agreement is not changed.

A copy of the compliance filing has been served on ODEC and PJM.

Comment date: October 23, 2001, in accordance with Standard Paragraph E at the end of this notice.

2. Old Dominion Electric Cooperative

[Docket No. ER01-2982-001]

Take notice that on October 1, 2001, Old Dominion Electric Cooperative (Applicant) tendered for filing with the Federal Energy Regulatory Commission (Commission) a substitute Service Agreement Between Old Dominion Electric Cooperative and Northern Virginia Electric Cooperative for Market Rate Electric Power and Rate Schedule NOVEC1-OD with proper designations, as well as redesignated Rate Schedule NOVEC1-OD Load Control Addendum and Rate Schedule NOVEC2-OD. Pursuant to instructions from Commission staff, this filing provides a substitute, correctly designated version of the Service Agreement and Rate Schedule NOVEC1-OD originally accepted for filing in Docket No. ER00-1512-000, and correctly designated versions of Rate Schedule NOVEC1-OD Load Control Addendum and Rate Schedule NOVEC2-OD. The terms of the rate schedule are not otherwise modified by this filing.

Comment date: October 22, 2001, in accordance with Standard Paragraph E at the end of this notice.

3. Somerset Windpower LLC

[Docket No. ER01-2139-002]

Take notice that on October 2, 2001, Somerset Windpower LLC (Somerset) tendered an amendment with the Federal Energy Regulatory Commission (Commission) Revision to Somerset's application for order authorizing market-based rates to its compliance filing of August 2, 2001 as requested by commission staff.

Comment date: October 23, 2001, in accordance with Standard Paragraph E at the end of this notice.

4. Carr Street Generating Station, L.P.

[Docket No. ER98-4095-001]

Take notice that on October 1, 2001, Carr Street Generating Station, L.P. submitted for filing with the Federal Energy Regulatory Commission (Commission), an updated market analysis as required by the Commission's condition granting it authorization to sell wholesale power and market-based rates.

Comment date: October 22, 2001, in accordance with Standard Paragraph E at the end of this notice.

5. UtiliCorp United Inc.

[Docket No. ES01-43-000]

Take notice that on September 27, 2001, UtiliCorp United Inc. (UtiliCorp) submitted an application pursuant to section 204 of the Federal Power Act seeking authorization to issue corporate guarantees in an amount not to exceed $1 billion an any one time in support of long-term debt and related obligations to be issued by one or more UtiliCorp subsidiaries in connection with investments in, acquisitions of assets of, or continuing ownership of gas and/or electric utility assets outside of the United States.

UtiliCorp also requests a waiver from the Commission's competitive bidding and negotiated placement requirements at 18 CFR 34.2.

Comment date: October 24, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-25621 Filed 10-11-01; 8:45 am]

BILLING CODE 6717-01-P